DEPARTMENT OF TRANSPORTATION

Federal Aviation Administration

14 CFR Part 71

[Docket No. FAA-2022-0901; Airspace Docket No. 21-ANE-5]

RIN 2120-AA66

Amendment and Revocation of VOR Federal Airways; Northeast United States

AGENCY: Federal Aviation Administration (FAA), DOT.

ACTION: Final rule.

SUMMARY: This action amends Very High Frequency (VHF) Omnidirectional Range (VOR) Federal airways V-16 and V-290 and removes Federal airways V-93 and V-229. This action is necessary to support the FAA's VOR Minimum Operational Network (MON) program.

DATES: Effective date 0901 UTC, August 10, 2023. The Director of the Federal Register approves this incorporation by reference action under 1 CFR part 51, subject to the annual revision of FAA JO Order 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11G, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the National Airspace System.

History

The FAA published a NPRM for Docket No. FAA-2022-0901 in the Federal Register (87 FR 43755; July 22, 2022), proposing to amend VOR Federal airways V-1, V-16, and V-290, and remove airways V-93, and V-229. Interested parties were invited to participate in this rulemaking effort by submitting written comments on the proposal. No comments were received.

Differences From the NPRM

Since publishing the NPRM, the FAA decided to postpone some of the proposed airway changes.

V-1: The NPRM proposed to remove the V-1 airway segments from Cofield, NC, to Boston, MA. After publication, the FAA decided to postpone these changes. Therefore, V-1 remains in effect as currently published in FAA Order JO 7400.11G.

V-16: The NPRM proposed to amend V-16 by removing the airway segments from the intersection of the Richmond, VA, 039° and the Patuxent, MD, 228° radials, to Boston, MA. After publication, the FAA decided to retain some of these segments. Accordingly, the FAA removes the segments between Richmond, VA, and Smyrna, DE; and the segments between the CREAM, NY, Fix, and Boston, MA. The segment from Smyrna to CREAM is being retained to support the VOR MON plan.

V-93: The NPRM proposed to remove V-93 entirely. After publication, the FAA decided to retain some of the route. V-93 is amended by removing only the segments between Patuxent River, MD, and Baltimore, MD.

V-229: The NPRM proposed to remove V-229 entirely. After publication, the FAA decided to retain some of the route. The FAA removes the following two segments of V-229: the segment between Patuxent River, MD, and the DONIL, DE, Fix: and the segment between the PANZE, NJ, Fix, and Hartford, CT. The airway segment between DONIL and PANZE is retained.

V-290: The NPRM proposed to amend V-290 by removing the segments from Rainelle, WV, to Flat Rock, VA, due to the planned decommissioning of the Rainelle, WV (RNL), VOR. Subsequently, the FAA established the SHANE, WV, navigation Fix to replace the VOR so that the segment to Flat Rock can be retained and remain available for navigation. The SHANE Fix is defined by the intersection of the Bluefield, WV (BLF), VOR/Distance Measuring Equipment (DME) 025°(T)/028°(M) and the Montebello, VA (MOL), VOR/DME 274°(T)/279°(M) radials.

These differences are reflected in the airway descriptions in the Rule section.

Incorporation by Reference

VOR Federal airways are published in paragraph 6010(a) of FAA Order JO 7400.11, Airspace Designations and Reporting Points, which is incorporated by reference in 14 CFR 71.1 on an annual basis. This document amends the current version of that order, FAA Order JO 7400.11G, dated August 19, 2022, and effective September 15, 2022. FAA Order JO 7400.11G is publicly available as listed in the ADDRESSES section of this document. These amendments will be published in the next update to FAA Order JO 7400.11.

FAA Order JO 7400.11G lists Class A, B, C, D, and E airspace areas, air traffic service routes, and reporting points.

The Rule

This action amends 14 CFR part 71 by modifying the following VOR Federal airways, as described.

V-16: V-16 consists of two parts: from Los Angeles, CA, to Holly Springs, MS; and from Shelbyville, TN, to Boston, MA. This action amends the second part of the route by removing the segments between Richmond, VA, and Smyrna, DE; and by removing the segments between the CREAM, NY, Fix and Boston, MA. The CREAM Fix is defined by the intersection of the Calverton, NY 044°, and the Madison, CT 142° radials. Therefore, the second part of V-16 extends from Shelbyville, TN, to Richmond, VA; and from Smyrna, DE, to the intersection of the Calverton, NY, 044°, and the Madison, CT 142° radials (i.e., the CREAM Fix). The first part of the route, from Los Angeles, CA, to Holly Springs, MS, remains unchanged as currently published in FAA Order JO 7400.11G. The words “The airspace within Restricted Areas R-4005 and R-4006 is excluded,” is removed from the route description because the amended route no longer passes by those areas.

As amended, V-16 consists of three parts: from Los Angeles, CA, to Holly Springs, MS; from Shelbyville, TN, to Richmond, VA; and from Smyrna, DE, to the intersection of the Calverton, NY, 044°, and the Madison, CT 142° radials.

Area Navigation (RNAV) route T-224 has been extended as an overlay of V-16.

V-93: V-93 extends, in two parts, from Patuxent River, MD, to the intersection of the Wilkes-Barre, PA 037° and Sparta, NJ 300° radials; and from the intersection of the Sparta 018° ad the Kingston, NY 270° radials, to Chester, MA. This action removes the segments from Patuxent River, MD to Baltimore, MD, due to the planned decommissioning of the Patuxent, MD, and Nottingham, MD, VOR/Tactical Air Navigation (VORTAC). As amended, V-93 extends from Baltimore, MD, to the intersection of the Wilkes-Barre, PA 037° and Sparta, NJ 300° radials; and from the intersection of the Sparta 018° and the Kingston, NY 270° radials to Chester, MA.

V-229: V-229 extends from Patuxent, MD, to Hartford, CT. This action removes the segments From Patuxent, MD to the DONIL, DE, Fix; and the segment from the PANZE, NJ, Fix to Hartford, CT. The segment From DONIL to PANZE is being retained at the request of the Department of Defense. As amended, V-229 extends from the intersection of the Atlantic City, NJ 236° and the Smyrna, DE 133° radials (the DONIL Fix) to the intersection of the Atlantic City 055° and the Coyle, NJ 125° radials (the PANZE Fix). The words “The airspace below 2,000 feet MSL outside the United States is excluded” are removed from the route description because they no longer apply.

RNAV route T-315 overlies the segments of VOR Federal airway V-229 north of the DONIL Fix.

V-290: V-290 consists of two parts: from Rainelle, WV to Flat Rock, VA; and from Tar River, NC to the intersection of the Tar River 109° and the New Bern, NC 042° radials. This action replaces the Rainelle, WV (RNL), VOR in the route description with the SHANE, WV, Fix. As amended, V-290 extends from the intersection of the Bluefield, WV 025°(T)/028°(M) and the Montebello, VA 274°(T)/279°(M) radials (the SHANE Fix) to Flat Rock; and from Tar River to the intersection of the Tar River 109° and the New Bern 042° radials.

The full route descriptions of these airways are listed in the amendments to part 71 set forth below. These actions are necessary to support the FAA's VOR MON program.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending VOR Federal airways V-16, V-290 and removing Federal airways V-93, V-290 in Northeastern United States, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5b, which categorically excludes from further environmental impact review “Actions regarding establishment of jet routes and Federal airways (see 14 CFR 71.15, Designation of jet routes and VOR Federal airways). . .”. As such, this action is not expected to result in any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR part 71 of FAA Order JO 7400.11G, Airspace Designations and Reporting Points, dated August 19, 2022, and effective September 15, 2022, is amended as follows:

Paragraph 6010(a) Domestic VOR Federal Airways

* * * * *

V-16 [Amended]

From Los Angeles, CA; Paradise, CA; Palm Springs, CA; Blythe, CA; Buckeye, AZ; Phoenix, AZ; INT Phoenix 155° and Stanfield, AZ, 105° radials; Tucson, AZ; San Simon, AZ; INT San Simon 119° and Columbus, NM, 277° radials; Columbus; El Paso, TX; Salt Flat, TX; Wink, TX; INT Wink 066° and Big Spring, TX, 260° radials; Big Spring; Abilene, TX; Bowie, TX; Bonham, TX; Paris, TX; Texarkana, AR; Pine Bluff, AR; Marvell, AR; to Holly Springs, MS. From Shelbyville, TN; Hinch Mountain, TN; Volunteer, TN; Holston Mountain, TN; Pulaski, VA; Roanoke, VA; Lynchburg, VA; Flat Rock, VA; to Richmond, VA. From Smyrna, DE, to INT Calverton, NY 044° and Madison, CT 142° radials. The airspace within Mexico, and the airspace below 2,000 feet MSL outside the United States is excluded. The airspace within restricted areas R-5002A, R-5002C, and R-5002D is excluded during their times of use.

* * * * *

V-93 [Amended]

From Baltimore, MD; 122° radials; Baltimore; INT Baltimore 004° and Lancaster, PA, 214° radials; Lancaster; Wilkes-Barre, PA; to INT Wilkes-Barre 037° and Sparta, NJ 300° radials. From INT Sparta 018° and Kingston, NY 270° radials; Kingston; Pawling, NY; to Chester, MA.

* * * * *

V-229 [Amended]

From INT Atlantic City, NJ 236° and Smyrna, DE 133° radials; Atlantic City; to INT Atlantic City 055° and Coyle, NJ, 125° radials. The airspace within R-5002B is excluded during times of use.

* * * * *

V-290 [Amended]

From INT Bluefield, WV 025° and Montebello, VA 274° radials; Montebello; to Flat Rock, VA. From Tar River, NC; to INT Tar River 109° and New Bern, NC, 042° radials.

* * * * *

Issued in Washington, DC, on May 16, 2023.
Brian Konie,
Acting Manager, Airspace Rules and Regulations.

[FR Doc. 2023-10795 Filed 5-19-23; 8:45 am]

BILLING CODE 4910-13-P